OFFICE OF THE UNITED STATES TRADE REPRESENTATIVE

Petition under Section 302 on Workers' Rights in China; Decision Not to Initiate Investigation

AGENCY: Office of the United States Trade Representative.

ACTION: Decision not to initiate investigation.

SUMMARY: The United States Trade Representative (USTR) has determined not to initiate an investigation under section 302 of the Trade Act of 1974 with respect to a petition filed on March 16, 2004 addressed to workers' rights in China because initiation of an investigation would not be effective in addressing the issues raised in the petition.

EFFECTIVE DATE: April 28, 2004.

FOR FURTHER INFORMATION CONTACT: Terrence McCartin, Director of Monitoring and Enforcement for China, (202) 395-3900; William Clatanoff, Assistant USTR for Labor, (202) 395-6120; or William Busis, Associate General Counsel, (202) 395-3150.

SUPPLEMENTARY INFORMATION: On March 16, 2004, the American Federation of Labor and Congress of Industrial Organizations filed a petition pursuant to section 302(a)(1) of the Trade Act of 1974, as amended (the Trade Act), alleging that certain acts, policies and practices of the Government of China with respect to Chinese manufacturing workers are unreasonable, as defined in section 301(d)(3)(B)(iii) of the Trade Act, and burden or restrict U.S. commerce. In particular, the petition alleges that acts, policies and practices of the Government of China constitute a persistent pattern of conduct that: (i) Denies to manufacturing workers the right of association, and the right to organize and bargain collectively; (ii) permits any form of forced or compulsory labor; and (iii) fails to provide standards for minimum wages, hours of work, and occupational safety and health. The petition claims that these acts, policies and practices of the Government of China burden U.S. commerce by depressing the wages of Chinese manufacturing workers, resulting in a cost advantage for goods manufactured in China and a loss of U.S. manufacturing jobs.

The USTR has determined not to initiate an investigation under section 302 of the Trade Act with respect to the petition because initiation of an investigation would not be effective in addressing the acts, policies, and practices raised in the petition. The Administration is currently involved in efforts to address with the Government of China many of the labor issues raised in the petition. The USTR believes that initiation of an investigation under section 302 would not further Administration efforts to improve workers' rights in China and, to the contrary, that initiation would instead hamper those efforts.

William Busis,
Chairman, Section 301 Committee.

[FR Doc. 04-10685 Filed 5-10-04; 8:45 am]

BILLING CODE 3190-W4-P